DEPARTMENT OF EDUCATION

National Assessment Governing Board; Meeting

AGENCY: U.S. Department of Education, National Assessment Governing Board.

ACTION: Notice of open meeting and partially closed sessions.

SUMMARY: This notice sets forth the schedule and proposed agenda of a forthcoming meeting of the National Assessment Governing Board (Board) and also describes the functions of the Board. Notice of this meeting is required under Section 10(a)(2) of the Federal Advisory Committee Act. This notice is intended to notify members of the general public of their opportunity to attend. Individuals who will need special accommodations in order to attend the meeting (e.g.: interpreting services, assistive listening devices, materials in alternative format) should notify Munira Mwalimu at 202-357-6938 or at Munira.Mwalimu@ed.gov no later than July 22, 2011. We will attempt to meet requests after this date, but cannot guarantee availability of the requested accommodation. The meeting site is accessible to individuals with disabilities.

Dates: August 4-6, 2011.

Times:

August 4: Committee Meetings:

Ad Hoc Committee: Open Session: 9:30 a.m.-11:00 a.m.

Assessment Development Committee: Closed Session: 11:30 a.m.-4:15 p.m.

Executive Committee: Open Session: 4:30 p.m.-5:30 p.m.; Closed Session: 5:30 p.m.-6:00 p.m.

August 5:

Full Board: Open Session: 8:30 a.m.-10:00 a.m.; Closed Session: 12:45 p.m.-1:45 p.m.; Open Session: 1:45 p.m.-4:30 p.m.

Committee Meetings:

Assessment Development Committee: Closed Session: 10:15 a.m.-12:30 p.m.

Committee on Standards, Design and Methodology: Open Session: 10:15 a.m.-12:00 p.m.

Closed Session: 12:00 p.m.-12:30 p.m.

Reporting and Dissemination Committee: Open Session: 10:15 a.m.-12:30 p.m.

August 6:

Nominations Committee: Closed Session: 7:30 a.m.-8:15 a.m.

Full Board: Open Session: 8:30 a.m.-10:30 a.m.

Location: The Ritz-Carlton Hotel, 1150 22nd Street, NW., Washington, DC.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board (Board) is established under section 412 of the National Education Statistics Act of 1994, as amended.

The Board is established to formulate policy guidelines for the National Assessment of Educational Progress (NAEP). The Board's responsibilities include the following: selecting subject areas to be assessed, developing assessment frameworks and specifications, developing appropriate student achievement levels for each grade and subject tested, developing standards and procedures for interstate and national comparisons, developing guidelines for reporting and disseminating results, and releasing initial NAEP results to the public.

On August 4, from 9:30 a.m. to 11:00 a.m., the Ad Hoc Committee on Parent Engagement will meet in open session. From 11:30 a.m. to 4:15 p.m. the Assessment Development Committee will meet in closed session to review secure test items for the 2012 Economics assessment at grade 12 and the 2013 Pilot Writing computer-based assessment at grade 4. The Assessment Development Committee will also review secure task outlines for the 2013 Pilot of the Technology and Engineering Literacy assessment at grade 8. The Board will be provided with specific test materials/questions for review that cannot be discussed/disclosed in an open meeting. Premature disclosure of these secure test items and materials would significantly impede implementation of the NAEP assessments, and is therefore protected by exemption 9(B) of section 552b(c) of Title 5 of the United States Code.

On August 4, from 4:30 p.m. to 5:30 p.m., the Executive Committee will meet in open session and thereafter in closed session from 5:30 p.m. to 6:00 p.m. During the closed session, the Committee will receive a briefing from the National Center for Education Statistics (NCES) on options for NAEP contracts covering assessment years beyond 2011 and address budget implications for the NAEP assessment schedule. The discussion of contract options and costs will address the congressionally mandated goals and Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 of the United States Code.

On August 5, the full Board will meet in open session from 8:30 a.m. to 10:00 a.m. The Board will review and approve the meeting agenda and meeting minutes from the May 2011 Board meeting, followed by the Chairman's remarks. The Executive Director of the Governing Board will then provide a report to the Board, followed by updates from the Commissioner of the National Center for Education Statistics (NCES) and the Director of the Institute of Education Sciences (IES). The Board will then discuss ways of improving student achievement and closing achievement gaps. Following these sessions, the Board will recess for Committee meetings from 10:15 a.m. to 12:30 p.m.

The Governing Board's standing committees, the Assessment Development Committee, and the Reporting and Dissemination Committee and the Committee on Standards, Design and Methodology will meet on August 5 from 10:15 a.m. to 12:30 p.m. The Reporting and Dissemination Committee will meet in open session from 10:15 a.m. to 12:30 p.m.

The Assessment Development Committee (ADC) will meet in closed session from 10:15 a.m. to 12:30 p.m. During the closed meeting the ADC will complete their review of secure NAEP test items for the 2012 Economics assessment at grade 12 and the 2013 Pilot Writing computer-based assessment at grade 4 which the Committee began to review on Thursday, August 4 in closed session. In addition, the ADC will receive a closed session briefing on embargoed data from cognitive lab studies of 4th grade students in preparation for the 2012 computer-based Writing Pilot assessment. Following that writing briefing, the ADC will receive an update on embargoed data from cognitive lab studies of 8th graders on the computer-based Technology and Engineering Literacy (TEL) assessment, in preparation for the 2013 TEL Pilot. The Board will be provided with specific test materials/questions for review that cannot be discussed/disclosed in an open meeting. Premature disclosure of these secure test items and materials would significantly impede implementation of the NAEP assessments, and is therefore protected by exemption 9(B) of section 552b(c) of Title 5 United States Code.

The Committee on Standards, Design and Methodology will meet in open session from 10:15 a.m. to 12:00 p.m., and in closed session from 12:00 p.m. to 12:30 p.m. During the closed session, the Committee will receive a briefing on secure data collected from the NAEP writing assessment regarding student uses of computer based options for the assessment and student responses collected as part of the assessment. The Board will be provided with specific assessment data for review that cannot be discussed/disclosed in an open meeting. Premature disclosure of these secure test results would significantly impede implementation of the NAEP assessments, and is therefore protected by exemption 9(B) of section 552b(c) of Title 5 United States Code.

On August 5, from 12:45 p.m. to 1:45 p.m. the full Board will meet in closed session to receive a briefing from NCES on the 2009 NAEP State Mapping Study. The Board will be provided with embargoed data and results that cannot be discussed in an open meeting prior to their official release by the National Center for Education Statistics on a date to be determined. Premature disclosure of these results would significantly impede implementation of the NAEP assessment program, and is therefore protected by exemption 9(B) of section 552b(c) of Title 5 United States Code.

From 2:00 p.m. to 3:00 p.m. in open sessions, the Board will receive updates from the Common Core State Assessment Consortia. Following this session, from 3:15 p.m. to 4:30 p.m., the Board will receive an overview of recent NAEP Report Card releases and discuss policy implications. The August 5, 2011 session of the Board meeting is scheduled to conclude at 4:30 p.m.

On August 6, 2011, the Nominations Committee will meet in closed session from 7:30 a.m. to 8:15 a.m. to receive an update on the status of finalists for Board terms beginning on October 1, 2011. Following the update, the Committee will discuss nominations for the 2011-2012 cycle. These discussions pertain solely to internal personnel rules and practices of an agency and will disclose information of a personal nature where disclosure would constitute an unwarranted invasion of personal privacy. As such, the discussions are protected by exemptions 2 and 6 of section 552b(c) of Title 5 of the United States Code.

On August 6, the full Board will meet in open session from 8:30 a.m. to 10:30 a.m. From 8:30 a.m. to 9:30 a.m., the Board will receive an Inside NAEP briefing on maintaining NAEP Trends. The Board is scheduled to receive Committee reports and take action on Committee recommendations. The August 6, 2011 session of the Board meeting is scheduled to adjourn at 10:00 a.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC, area at (202) 512-0000.

Note: The official version of this document is the document published in the Federal Register. Free Internet access to the official edition of the Federal Register and the Code of Federal Regulations is available on GPO Access at: http://www.gpoaccess.gov/nara/index.html.

Dated: July 14, 2011.
Cornelia S. Orr,
Executive Director, National Assessment Governing Board, U.S. Department of Education.

[FR Doc. 2011-18183 Filed 7-19-11; 8:45 am]

BILLING CODE 4000-01-P